DEPARTMENT OF ENERGY

Western Area Power Administration

Construction and Operation of the Proposed Transmission Agency of Northern California Transmission Project, California

AGENCY: Western Area Power Administration, DOE.

ACTION: Advance Notice of Intent to Prepare an Environmental Impact Statement/Environmental Impact Report; Notice of Floodplain and Wetlands Involvement.

SUMMARY: The Western Area Power Administration (Western), an agency of the U.S. Department of Energy (DOE), intends to prepare a joint environmental impact statement/environmental impact report (EIS/EIR) for the construction and operation of the proposed Transmission Agency of Northern California (TANC) Transmission Project (Project) in California. Western is issuing this Advance Notice to inform the public and interested parties early about the proposed Project. At a later date, Western plans to issue a formal Notice of Intent (NOI) and conduct a public scoping process, during which Western will invite the public to comment on the scope, proposed action, alternatives, and other issues to be addressed in the EIS/EIR.

The EIS/EIR will address the construction, maintenance, and operation of the proposed Project, which would include building and upgrading over 500 miles of 230-kilovolt (kV) and 500-kV transmission lines and associated equipment and facilities in northern California. Portions of the proposed Project may affect floodplains and wetlands in the area. Western will hold public scoping meetings in several locations near the Project area during the public scoping period, anticipated to begin in early 2009. At the scoping meetings, Western will share information and receive comments and suggestions on the scope of the EIS/EIR.

FOR FURTHER INFORMATION CONTACT: For further information about the project or the EIS/EIR process, contact Mr. David Young, National Environmental Policy Act (NEPA) Document Manager, Western Area Power Administration, Sierra Nevada Region, 114 Parkshore Drive, Folsom, CA 95630, telephone (916) 353-4542, fax (916) 353-4772. For general information on DOE's NEPA review procedures or status of a NEPA review, contact Ms. Carol M. Borgstrom, Director of NEPA Policy and Compliance, GC-20, U.S. Department of Energy, 1000 Independence Avenue, SW., Washington, DC 20585, telephone (202) 586-4600 or (800) 472-2756.

SUPPLEMENTARY INFORMATION: Western, an agency within DOE, markets Federal hydroelectric power to preference customers, as specified by law. These customers include municipalities, cooperatives, irrigation districts, Federal and State agencies, and Native American tribes in 15 western states, including California. Western owns and operates more than 17,000 miles of high-voltage transmission lines.

TANC is a registered Transmission Owner, Transmission Planner, and Transmission Service Provider (as these terms are defined by the North American Electric Reliability Corporation). TANC's mission is to assist its publicly owned utility members in providing cost-effective energy supplies to their customers, through long-term ownership of high-voltage transmission lines within California and the western United States. TANC's membership includes the California cities of Alameda, Biggs, Gridley, Healdsburg, Lodi, Lompoc, Palo Alto, Redding, Roseville, Santa Clara, and Ukiah; the Sacramento Municipal Utility District (SMUD); Modesto Irrigation District; and Turlock Irrigation District. The Plumas-Sierra Rural Electric Cooperative is an associate member of TANC. TANC owns and operates several transmission lines and associated facilities throughout Northern California.

Project Description

TANC and Western propose to coordinate development of the proposed Project, which includes new and upgraded 230-kV and 500-kV transmission lines, substations, and related facilities. The Project would be designed to provide new access to renewable energy resources in northern California, northwestern Nevada, and the Pacific Northwest, enhance the California-Oregon interties, reduce existing congestion and system losses, increase the load-carrying capability and reliability of northern California's transmission system, improve the reliability of Western's existing Balancing Authority Area, and relieve existing electrical transmission system constraints in northern California.

Details and plans for the proposed Project and alternatives are still being developed. Known components of the proposed Project would consist of five routing segments of transmission lines that generally extend from northeastern California to the Central Valley and westward into the San Francisco Bay Area. Alternatives to the proposed routes are currently in development.

North Segment. This segment would originate near the community of Ravendale in the Mt. Lassen area. It would be generally aligned to the southwest and terminate just south of the City of Redding at the California Oregon Transmission Project's (COTP) Olinda Substation. This segment would provide access to new and existing renewable energy resources. The North Segment would include new 500-kV transmission lines with up to three new substations.

Central Segment. The Central Segment would begin at the northern portion of the Central Valley, south of Redding and continue south to an area near Western's existing Tracy Substation. As a continuation of the North Segment, the Central Segment would include a new 500-kV transmission line extending from the Olinda Substation to two new substations, one in the southwestern section of SMUD's service territory, and a second near the Tracy Substation.

East Segment. This segment would begin at the proposed new substation near Tracy and be generally aligned in an easterly direction within the Central Valley to a new substation near the City of Oakdale and then would extend in a southerly direction to a new substation near the City of Turlock. The East Segment would include new 230-kV and 500-kV transmission lines and two new substations. It would provide an east-side tie between TANC members and the Central Segment.

West Segment. The West Segment would travel in a southwesterly direction from the COTP at the Tracy Substation and terminate in the City of Santa Clara, which is located in the southern portion of the San Francisco Bay area. This alignment would include new and upgraded 230-kV transmission lines and a new substation to provide a direct connection between the COTP and the City of Santa Clara.

Sierra Foothills Segment. This Segment would be built, owned, and operated by Western. It would originate at Western's existing New Melones Substation in the southern Sierra foothills near the City of Sonora and be aligned in a southwesterly direction to the proposed new substation on the East Segment, near the City of Oakdale. This Segment would include new 230-kV transmission lines.

To participate in the Project, Western must comply with NEPA (42 U.S.C. 4321-4347, as amended), Council on Environmental Quality Regulations for implementing NEPA (40 CFR parts 1500-1508), and DOE NEPA Implementing Procedures (10 CFR part 1021). Because the proposed Project may involve action in floodplains or wetlands, the EIS/EIR will include, as applicable, a floodplain/wetland assessment and floodplain/wetland statement of findings following DOE regulations for compliance with floodplain and wetlands environmental review (10 CFR part 1022).

Western is issuing this Advance Notice pursuant to 10 CFR 1021.311(b) to inform the public and interested parties early about the proposed Project. At a later date, Western intends to issue a formal NOI and conduct a public scoping process, during which Western will invite the public to comment on the scope, proposed action, alternatives and other issues to be addressed in the EIS/EIR. Additional detailed information on the components of the proposed Project, alternatives, and potential environmental issues will be more fully developed in the formal NOI.

Agency Responsibilities

Western is the lead Federal agency, as defined at 40 CFR 1501.5, for preparation of the NEPA analysis. The U.S. Department of the Agriculture, Forest Service and the U.S. Department of the Interior, Bureau of Land Management plan to be cooperating agencies because of their jurisdiction over proposed routing across public lands. With this notice, Tribes and agencies with jurisdiction or special expertise are also invited to be cooperating agencies. Such Tribes or agencies may make a request to Western to be a cooperating agency by contacting Mr. Young at the address listed above. Designated cooperating agencies have certain responsibilities to support the NEPA process, as specified at 40 CFR 1501.6(b).

TANC will be responsible for satisfying all requirements of the California Environmental Quality Act. Thus, Western and TANC will prepare a joint EIS/EIR.

Public Participation

Public participation and full disclosure are planned for the entire EIS/EIR process. The formal NOI is anticipated for publication in the Federal Register in early 2009. Once the NOI is published, TANC and Western will hold public scoping meetings. The dates, times, and locations, as well as information on how to provide comments will be further described in the NOI. The EIS/EIR process will also include public review and hearings on the draft EIS/EIR; publication of a final EIS/EIR; and publication of a record of decision anticipated in early 2011.

Dated: December 22, 2008.
Timothy J. Meeks,
Administrator.

[FR Doc. E9-53 Filed 1-6-09; 8:45 am]

BILLING CODE 6450-01-P